DEPARTMENT OF TRANSPORTATION

Maritime Administration

[Docket Number USCG-2005-22611]

Deepwater Port License: Amendment of the Neptune LNG LLC Deepwater Port License and Temporary Suspension of Operations at the Neptune LNG Deepwater Port

AGENCY: Maritime Administration, U.S. Department of Transportation (DOT).

ACTION: Notice.

SUMMARY: The Maritime Administration (MARAD) provides notice of its decision to approve the request of Neptune LNG LLC (Neptune) to extend the suspension of port operations at the Neptune Deepwater Port (Neptune Port) and its amending of the Neptune Deepwater Port License (License) to that effect.

DATES: The suspension of operations at Neptune Port is extended until December 31, 2027.

ADDRESSES: DOT's Docket Management Facility maintains the public docket for this project. The docket may be viewed electronically at http://www.regulations.gov under docket number USCG-2005-22611.

FOR FURTHER INFORMATION CONTACT: Linden Houston, Transportation Specialist, MARAD's Office of Deepwater Port Licensing & Port Conveyance via telephone at (202) 366-4839 or email at Deepwater.Ports@dot.gov.

SUPPLEMENTARY INFORMATION: On December 12, 2024, MARAD received a written request from Neptune for authorization to extend the suspension of the Neptune Port operation, located approximately 22 miles northeast of Boston, Massachusetts. In the request, Neptune indicated that the continued suspension of operations remains necessary as Neptune evaluates the decommissioning process. Neptune requested MARAD's authorization to formally extend the suspension of port operations until December 31, 2027.

Pursuant to 33 U.S.C. 1503(b)(2), the Secretary of Transportation (Secretary) may, on petition of a licensee, amend a deepwater port license issued under the Deepwater Port Act of 1974, as amended. By delegation of the Secretary, MARAD has determined that the amendment of the license is consistent with the requirements of 33 U.S.C. Chapter 29 and has authorized amendment of the license to provide an additional suspension of port operations. The amendment applies only to Articles 2, 6, and 19 of the license. All other terms, conditions, and obligations of the license will remain in effect during and after the suspension period. The suspension period will expire on December 31, 2027.

In order to resume operations prior to the expiration of the suspension period, Neptune must petition MARAD for approval to resume port operations. The petition must be submitted at least six months before the proposed restart date and certify that Neptune receives all applicable Federal and State permits, approvals, and authorizations. Should Neptune request an extension of the suspension period, such request must be submitted to MARAD no less than one hundred eighty calendar days before the expiration date of the suspension period. Thereafter, MARAD will evaluate, in consultation with the relevant Federal agencies, the appropriateness of such an extension. The final determination on any extension will be rendered by the Maritime Administrator or a designee acting on behalf of the Maritime Administrator.

Additional information pertaining to this public notice may be found in the public docket regarding the Neptune Deepwater Port License online at www.regulations.gov, under docket number USCG-2005-22611 (see ADDRESSES).

(Authority: 33 U.S.C. 1501, et seq.; 49 CFR 1.93(h))

By Order of the Maritime Administration.
T. Mitchell Hudson, Jr.,
Secretary, Maritime Administration.

[FR Doc. 2025-15808 Filed 8-18-25; 8:45 am]

BILLING CODE 4910-81-P